DEPARTMENT OF ENERGY

Federal Energy Regulatory Commission

Privacy Act of 1974; System of Records

AGENCY: Federal Energy Regulatory Commission (FERC), Department of Energy (DOE).

ACTION: Rescindment of system of records notice.

SUMMARY: Pursuant to the Privacy Act of 1974 and Office of Management and Budget (OMB) Circular No. A-108, the Federal Energy Regulatory Commission (Commission or FERC) proposes to rescind two existing systems of records notices (SORNs). The Rescindment of System of Records Notice identifies the systems of records and explains why each is being rescinded.

DATES: Comments on this rescindment notice must be received no later than 30 days after the date of publication in the Federal Register. If no public comment is received during the period allowed for comment or unless otherwise published in the Federal Register by FERC, the rescindment will become effective a minimum of 30 days after the date of publication in the Federal Register. If FERC receives public comments, FERC shall review the comments to determine whether any changes to the notice are necessary.

ADDRESSES: Comments may be submitted in writing to Federal Energy Regulatory Commission, 888 First Street NE, Washington, DC 20426, or electronically to privacy@ferc.gov. Comments should indicate that they are submitted in response to “Management, Administrative, and Payroll System (MAPS) (FERC-36)” and “Commission Employee Assistance Program Records (FERC-54)”.

FOR FURTHER INFORMATION CONTACT: Michelle Lipinski, Director, Human Resources Division, Office of the Executive Director, Federal Energy Regulatory Commission, 888 First Street NE, Washington, DC 20426, (202) 502-6852.

SUPPLEMENTARY INFORMATION: Two (2) systems of records were identified for rescindment from the FERC's Privacy Act systems of records inventory. Those two systems of records were identified for rescindment because: (1) the records will be maintained as part of a modified system of records; or (2) the records are no longer maintained by FERC.

1. OMB requires that each agency provide assurance that systems of records do not duplicate any existing agency or government-wide systems of records (Appendix I, OMB Circular A-130). Management, Administrative, and Payroll System (MAPS) (FERC-36) was identified for rescindment because FERC is no longer using the Management, Administrative, and Payroll System (MAPS) and is instead using Federal Personnel Payroll System (FPPS) which is covered by Federal Personnel and Payroll Records (FERC-57) and PeopleSoft Financials which is covered by Financial Management Records (FERC-56).

2. Commission Employee Assistance Program Records (FERC-54) was identified for rescindment because FERC no longer keeps records on employees who have been counseled or referred to the Employee Assistance Program for problems relating to alcoholism, drug abuse, job stress, chronic illness, family or relationship concerns, emotional and other similar issues. Instead, records of employees who sought assistance through that program are maintained by the Federal Occupational Health Program which is part of the Department of Health and Human Services.

SYSTEM NAME(S) AND NUMBER(S):

Management, Administrative, and Payroll System (MAPS) (FERC-36)

Commission Employee Assistance Program Records (FERC-54)

HISTORY:

System No. | Federal Register No. and publication date
FERC-36 | 65 FR 21753 (April 24, 2000).
FERC-54 | 65 FR 21763 (April 24, 2000).

Issued: January 8, 2025.
Debbie-Anne A. Reese,
Secretary.

[FR Doc. 2025-00839 Filed 1-14-25; 8:45 am]

BILLING CODE 6717-01-P